DEPARTMENT OF COMMERCE

International Trade Administration

[A-570-051]

Certain Hardwood Plywood Products From the People's Republic of China: Preliminary Results of Antidumping Duty Administrative Review, Preliminary Determination of No Shipments, and Partial Rescission; 2021-2022

AGENCY: Enforcement and Compliance, International Trade Administration, Department of Commerce.

SUMMARY: The U.S. Department of Commerce (Commerce) preliminarily finds that certain hardwood plywood products (hardwood plywood) from the People's Republic of China (China) were sold in the United States at below normal value (NV) during the period of review (POR) September 26, 2021, through December 31, 2022. Commerce also preliminarily finds that 19 companies had no subject shipments of hardwood plywood and that these companies will be eligible to participate in the certification program previously established with respect to the antidumping duty order on certain hardwood plywood products from China. Further, Commerce preliminarily determines that three companies subject to this review are part of the China-wide entity because they had shipments of subject merchandise and did not demonstrate eligibility for a separate rate. Finally, we are rescinding this review with respect to 73 companies. We invite interested parties to comment on these preliminary results.

DATES: Applicable August 15, 2024.

FOR FURTHER INFORMATION CONTACT: Rachel Jennings, AD/CVD Operations, Office V, Enforcement and Compliance, International Trade Administration, U.S. Department of Commerce, 1401 Constitution Avenue NW, Washington, DC 20230; telephone: (202) 482-1110.

SUPPLEMENTARY INFORMATION:

Background

On January 4, 2018, Commerce published in the Federal Register the antidumping duty order on hardwood plywood from China.¹ On January 3, 2023, Commerce published in the Federal Register a notice of opportunity to request an administrative review of the Order covering entries of hardwood plywood from China from January 1, 2022, through December 31, 2022.² On March 14, 2023, based on timely requests for an administrative review, Commerce initiated the administrative review with respect to 98 companies.³

¹ See Certain Hardwood Plywood Products from the People's Republic of China: Amended Final Determination of Sales at Less Than Fair Value, and Antidumping Duty Order, 83 FR 504 (January 4, 2018) (Order).

² See Antidumping or Countervailing Duty Order, Finding, or Suspended Investigation; Opportunity to Request Administrative Review and Join Annual Inquiry Service List, 88 FR 45 (January 3, 2023).

³ See Initiation of Antidumping and Countervailing Duty Administrative Reviews, 88 FR 15642 (March 14, 2023) (Initiation Notice). Although we initiated this review with respect to 109 individual company names, we previously found that several of these companies were the same entity, while a number of other companies were duplicated via minor name variations. For further discussion, see Memorandum, “Decision Memorandum for the Preliminary Results of the Antidumping Duty Administrative Review of Certain Hardwood Plywood Products from the People's Republic of China and Partial Rescission; 2021-2022,” dated concurrently with this notice (Preliminary Decision Memorandum).

On July 20, 2023, we published in the Federal Register the Circumvention Final Determination, in which we: (1) determined that certain hardwood plywood exported from the Socialist Republic of Vietnam (Vietnam) and entered into the United States was circumventing the Order and therefore is now covered by the Order; and (2) established a certification program to allow eligible producers and exporters of hardwood plywood exported from Vietnam to certify that entries of hardwood plywood exported from Vietnam are not subject to the Order.⁴ We also indicated that we would: (1) expand the POR for this administrative review to begin on September 26, 2021, so as to capture the first entry suspended as a result of the circumvention determination; and (2) allow interested parties to request reviews of unliquidated/suspended entries of merchandise from Vietnam that entered from September 26, 2021, through December 31, 2021.⁵

⁴ See Certain Hardwood Plywood Products from the People's Republic of China: Final Scope Determination and Affirmative Final Determination of Circumvention of the Antidumping and Countervailing Duty Orders, 88 FR 46740 (July 20, 2023) (Circumvention Final Determination), and the accompanying Issues and Decision Memorandum (IDM).

⁵ See Circumvention Final Determination IDM at Comment 13.

On August 11, 2023, Commerce notified parties that we received no additional requests for administrative reviews as a result of Commerce's decision to expand the POR,⁶ and on August 23, 2023, Commerce released entry data from U.S. Customs and Border Protection (CBP) to interested parties for comment.⁷ Subsequently, we notified parties of our intent to rescind this administrative review with respect to 73 of the 98 companies subject to this review because they either had no suspended entries during the POR or had all requests for review withdrawn.⁸

⁶ See Memorandum “Companies Under Review for the Expanded POR,” dated August 11, 2023.

⁷ See Memorandum, “CBP Data Release,” dated August 23, 2023.

⁸ See Memorandum, “Notice of Intent to Rescind Review, In Part,” dated June 27, 2024 (Intent to Rescind Memorandum) at Attachment III.

On January 31, 2024, Commerce deferred the deadline for completing the preliminary results of this review until July 30, 2024.⁹ On July 22, 2024, Commerce tolled certain deadlines in this administrative proceeding by seven days.¹⁰ The deadline for the preliminary results is now August 6, 2024. For details regarding the events that occurred subsequent to the initiation of the review, see the Preliminary Decision Memorandum.

⁹ See Memorandum, “Deferral of the Preliminary Results of Antidumping and Countervailing Duty Administrative Reviews; 2022,” dated January 31, 2024.

¹⁰ See Memorandum, “Tolling of Deadlines for Antidumping and Countervailing Duty Proceedings,” dated July 22, 2024.

Scope of the Order

The merchandise covered by the scope of this Order is hardwood plywood from China. A complete description of the scope of the Order is contained in the Preliminary Decision Memorandum.

Rescission of Administrative Review, in Part

Pursuant to 19 CFR 351.213(d)(3), when there are no reviewable entries of subject merchandise during the POR subject to the antidumping duty order for which liquidation is suspended, Commerce may rescind an administrative review, in whole or only with respect to a particular exporter or producer.¹¹ At the end of the administrative review, any suspended entries are liquidated at the assessment rate computed for the review period.¹² Therefore, for an administrative review to be conducted, there must be a reviewable, suspended entry to be liquidated at the newly calculated assessment rate. On June 27, 2024, Commerce notified all interested parties of its intent to rescind this review with respect to 67 companies because those companies had no reviewable, suspended entries of subject merchandise and invited parties to comment.¹³ We received no comments on our intent to rescind the review with respect to these companies. Accordingly, in the absence of suspended entries of subject merchandise during the POR for these 67 companies for which this review was initiated, we are hereby rescinding this administrative review, in part, with respect to these companies, in accordance with 19 CFR 351.213(d)(3).

¹¹ See, e.g., Forged Steel Fittings from Taiwan: Rescission of Antidumping Duty Administrative Review; 2018-2019, 85 FR 71317, 71318 (November 9, 2020); see also Certain Circular Welded Non-Alloy Steel Pipe from Mexico: Rescission of Antidumping Duty Administrative Review; 2016-2017, 83 FR 54084 (October 26, 2018).

¹² See 19 CFR 351.212(b)(1).

¹³ See Intent to Rescind Memorandum.

In addition, pursuant to 19 CFR 351.213(d)(1), Commerce will rescind an administrative review, in whole or in part, if the party that requested a review withdraws the request within 90 days of the date of publication of the notice of initiation. All parties timely withdrew their review requests for: (1) Fulin Wood Import Export Company Limited; (2) Greatwood Joint Stock Company; (3) Greentech Investment Co., Ltd.; (4) Long Dat Import and Export Production Company ; (5) Star Light Multimedia Co., Ltd.; and (6) VietBac Plywood LLC. Because the review requests were timely withdrawn, and no other party requested a review of these companies, Commerce is rescinding this review with respect to these six companies (see Appendix II for a list of all companies for which Commerce is rescinding this review).

Methodology

Commerce is conducting this review in accordance with section 751(a)(1)(B) of the Tariff Act of 1930, as amended (the Act) and 19 CFR 351.213. For a full description of the methodology underlying these preliminary results, see the Preliminary Decision Memorandum. See Appendix III for a complete list of topics discussed in the Preliminary Decision Memorandum. The Preliminary Decision Memorandum is a public document and is made available to the public via Enforcement and Compliance's Antidumping and Countervailing Duty Centralized Electronic Service System (ACCESS). ACCESS is available to registered users at http://access.trade.gov. In addition, a complete version of the Preliminary Decision Memorandum is available at https://access.trade.gov/public/FRNoticesListLayout.aspx.

Preliminary Determination of No Shipments

In this administrative review, we issued questionnaires to all companies under review to gather information on the quantity and value (Q&V) of their shipments of hardwood plywood to the United States.¹⁴ We received responses to these questionnaires from 22 companies, all of which reported that their suspended entries consisted exclusively of non-subject merchandise. We issued additional questionnaires to these companies and received complete responses from only 15 of them. We have analyzed the information in these responses and preliminarily find that these 15 companies have provided information to support their claims that the hardwood plywood they exported to the United States are of non-subject plywood. We are also preliminarily accepting the claims of four additional companies from which Commerce is awaiting additional information, pending the receipt of the requested information.¹⁵

¹⁴ See Commerce's Letter, “Quantity and Value Questionnaire,” dated November 20, 2023; see also Memorandum, “Clarification of Companies Required to Submit Responses to Q&V Questionnaire,” dated November 28, 2023; and Commerce's Letters, “Request for Entry Information,” dated February 5, 2024 (collectively, Q&V Questionnaire).

¹⁵ The responses to the questionnaires issued to the following companies are currently due on or after the date of these preliminary results: An An Plywood Joint Stock Company, Cosco Star International Co., Ltd., Greatwood Hung Yen Joint Stock Company, and Thang Long Wood Panel Company (Thang Long).

We also preliminarily find it appropriate to permit the 15 companies noted above, as well as Thang Long, to participate in the certification program at the conclusion of this administrative review. The other three companies are currently eligible to participate in this certification program, and we preliminarily find no basis to alter their status.¹⁶

¹⁶ See Appendix I for a complete list of companies subject to this review that are preliminarily eligible to certify their entries of hardwood plywood exported from Vietnam.

China-Wide Entity

Commerce's policy regarding conditional review of the China-wide entity applies to this administrative review.¹⁷ Under this policy, the China-wide entity will not be under review unless a party specifically requests, or Commerce self-initiates, a review of the China-wide entity.¹⁸ Because no party requested a review of the China-wide entity in this review, the China-wide entity is not under review. For additional information, see the Preliminary Decision Memorandum.

¹⁷ See Antidumping Proceedings: Announcement of Change in Department Practice for Respondent Selection in Antidumping Duty Proceedings and Conditional Review of the Nonmarket Economy Entity in NME Antidumping Duty Proceedings, 78 FR 65963 (November 4, 2013).

¹⁸ Id.

Separate Rates

In this administrative review, three companies under review had suspended entries but failed to provide Separate Rate Applications (SRAs) or separate rate certifications (SRCs)and/or responses to the Q&V Questionnaire. These companies are Hoang Lam Plywood Joint Stock Co. (Hoang Lam), Quang Phat Wood Joint Stock Company (Quang Phat), and Shanghai Luli Trading Co., Ltd. (Shanghai Luli). Commerce noted in its SRA that exporters must respond to Commerce's Q&V questionnaire as well as submit an SRA or SRC in order to receive consideration for separate rate status.¹⁹ As a result, we consider Hoang Lam, Quang Phat, and Shanghai Luli to be part of the China-wide entity. At the conclusion of the review, we intend to liquidate any suspended entries from these companies at the current rate for the China-wide entity (i.e., 114.72 percent).²⁰ For additional information, see the Preliminary Decision Memorandum.

¹⁹ See Commerce's Separate Rate Application at https://access.trade.gov/Resources/nme/nme-sep-rate.html (Commerce's Separate Rate Application), page 3.

²⁰ See Certain Hardwood Plywood Products from the People's Republic of China: Notice of Decision Not in Harmony with the Final Determination of Antidumping Duty Investigation; Notice of Amended Determination pursuant to Court Decision; and Notice of Revocation of Antidumping Duty Order, In Part, 88 FR 77966 (November 14, 2023).

Three additional companies under review (i.e., Groll Ply and Cabinetry Co., Ltd. (Groll Ply), Plywood Sunshine Co., Ltd. (Plywood Sunshine), and Quoc Thai Forestry Import Export Limited Company (Quoc Thai)) had suspended entries of plywood exported from Vietnam and submitted both responses to the Q&V Questionnaire and SRAs. We preliminarily find that these three companies have demonstrated eligibility for separate rates. As noted below, we have assigned Groll Ply, Plywood Sunshine, and Quoc Thai, a dumping margin based on adverse facts available (AFA).

Use of Adverse Facts Available

Groll Ply, Plywood Sunshine, and Quoc Thai had entries of plywood during the POR that they claimed were of non-subject merchandise. We required these companies to provide information related to these entries, but they did not respond to these requests for information, and therefore, we are preliminary finding that Groll Ply, Plywood Sunshine, and Quoc Thai failed to support their claims that their entries of plywood during the POR were not of subject merchandise.²¹

²¹ See Preliminary Decision Memorandum.

Pursuant to sections 776(a) and (b) of the Act, Commerce has assigned Groll Ply, Plywood Sunshine, and Quoc Thai a dumping margin of 89.10 percent based on AFA, offset by the export subsidies determined in the companion countervailing duty (CVD) administrative review. These three companies ceased participating in this review and did not provide information requested by Commerce; accordingly, we find that necessary information is not available on the record, they failed to provide the requested information in the form and manner requested, and significantly impeded the proceeding, pursuant to section 776(a) of the Act. Additionally, we find that Groll Ply, Plywood Sunshine, and Quoc Thai had necessary information in their possession and elected not to submit the information and, thus, the three companies did not act to the best of their abilities in responding to Commerce's information requests by the applicable deadline, pursuant to section 776(b) of the Act. For additional information regarding this determination, see the Preliminary Decision Memorandum.

Commerce preliminarily determines that the following dumping margins exist for the period of September 26, 2021, through December 31, 2022, for entries of hardwood plywood exported by these companies:

Exporter | Dumping margin (percent)
Groll Ply and Cabinetry Co., Ltd | * 89.10
Plywood Sunshine Co., Ltd | * 89.10
Quoc Thai Forestry Import Export Limited Company | * 89.10
* This rate was determined wholly under section 776 of the Act, and was offset by the export subsidies calculated in the companion CVD administrative review.²²

Disclosure

²² See Certain Hardwood Plywood Products from the People's Republic of China: Notice of Decision Not in Harmony with the Final Determination of Antidumping Duty Investigation; Notice of Amended Determination pursuant to Court Decision; and Notice of Revocation of Antidumping Duty Order, In Part, 88 FR 77966 (November 14, 2023); see also Memorandum, “Export Subsidies Rate,” dated concurrently with this notice.

Normally, Commerce discloses to interested parties the calculations performed in preliminary results within five days of any public announcement or, if there is no public announcement, within five days of the date of publication of the notice of preliminary results in the Federal Register, in accordance with 19 CFR 351.224(b). However, because Commerce is applying AFA to the above companies, there are no calculations to disclose.

Certification Eligibility

Due to their failure to provide necessary information for determining certification eligibility, we preliminarily determine that Groll Ply, Hoang Lam, Plywood Sunshine, Quang Phat, and Quoc Thai remain barred from participating in the certification program in this proceeding.

Verification

From July 1 through July 10, 2024, we conducted verification of the questionnaire responses of five exporters/producers under review, Arrow Forest International Co., Ltd., Hai Hien Bamboo Wood Joint Stock Company, Lechenwood Viet Nam Company Limited, Long Luu Plywood Production Co., Ltd., and TL Trung Viet Company Limited. We intend to verify the information submitted by the remaining exporters listed in Appendix I after the preliminary results.

Public Comment

In accordance with 19 CFR 351.309(c), case briefs or other written comments may be submitted to the Assistant Secretary for Enforcement and Compliance no later than seven days after the date on which the last verification report is issued. Rebuttal briefs, limited to issues raised in case briefs, may be submitted no later than five days after the deadline for case briefs.²³ Pursuant to 19 CFR 351.309(c)(2) and (d)(2), parties who submit case briefs or rebuttal briefs in this review are encouraged to submit with each argument: (1) a statement of the issue; (2) a brief summary of the argument; and (3) a table of authorities.

²³ See 19 CFR 351.309; see also 19 CFR 351.303 (for general filing requirements).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.²⁴ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).²⁵

²⁴ We use the term “issue” here to describe an argument that Commerce would normally address in a comment of the Issues and Decision Memorandum.

²⁵ See Administrative Protective Order, Service, and Other Procedures in Antidumping and Countervailing Duty Proceedings, 88 FR 67069, 67077 (September 29, 2023).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined. Parties should confirm by telephone the date, time, and location of the hearing two days before the scheduled date.

Assessment Rates

Upon issuance of the final results of this review, Commerce shall determine, and CBP shall assess, antidumping duties on all appropriate entries covered by this review.²⁶ For all entries of merchandise exported by the companies listed in Appendix I, we intend to instruct CBP to liquidate the entries without regard to antidumping duties in these preliminary results are unchanged for the final results. For entries of merchandise exported by Hoang Lam, Quang Phat, and Shanghai Luli, which are part of the China-wide entity, we will instruct CBP to liquidate their entries at the current rate for the China-wide entity (i.e., 114.72 percent). For all suspended entries of merchandise exported by Groll Ply, Plywood Sunshine, and Quoc Thai, we will instruct CBP to liquidate their entries at the assigned rate of 89.10 percent. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²⁶ See 19 CFR 351.212(b)(1).

For the companies (see Appendix II) for which this review is rescinded with these preliminary results, we will instruct CBP to assess antidumping duties on all appropriate entries at a rate equal to the cash deposit of estimated antidumping duties required at the time of entry, or withdrawal from warehouse, for consumption, during the period September 26, 2021, through December 31, 2022, in accordance with 19 CFR 351.212(c)(l)(i). Commerce intends to issue assessment instructions to CBP no earlier than 35 days after the date of publication of the preliminary results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for shipments of subject merchandise, entered, or withdrawn from warehouse, for consumption on or after the publication date of the final results of this administrative review, as provided by section 751(a)(2)(C) of the Act: (1) the cash deposit rates for Groll Ply, Plywood Sunshine, and Quoc Thai, will be 89.10 percent; (2) for previously investigated or reviewed exporters that have separate rates, the cash deposit rate will continue to be the exporter-specific rate published for the most recently completed segment of this proceeding; (3) for all Chinese exporters of subject merchandise that have not been found to be entitled to a separate rate, the cash deposit rate will be the rate for the China-wide entity (i.e., 114.72 percent); (4) for all non-Chinese exporters of subject merchandise that have not received their own rate, the cash deposit rate will be the rate applicable to the exporter that supplied that non-Chinese exporter, where available, or the rate for the China-wide entity (i.e., 114.72), if no alternate rate is available. These deposit requirements, when imposed, shall remain in effect until further notice.

Final Results of Review

Unless otherwise extended, Commerce intends to issue the final results of this administrative review, which will include the results of its analysis of issues raised in any briefs, within 120 days of publication of these preliminary results of review, pursuant to section 751(a)(3)(A) of the Act.

Notification to Importers

This notice also serves as a reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties.

Notification to Interested Parties

These preliminary results of administrative review are issued and published in accordance with sections 751(a)(1) and 777(i)(l) of the Act, and 19 CFR 351.221(b)(4).

Dated: August 6, 2024.
Scot Fullerton,
Acting Deputy Assistant Secretary for Antidumping duty and Countervailing Operations.

Appendix I

Participating Companies Which Reported No POR Shipments of Subject Merchandise

1. An An Plywood Joint Stock Company

2. Arrow Forest International Co., Ltd.

3. Cam Lam Vietnam Joint Stock Company ²⁷

²⁷ We also initiated a review of this company under the minor name variation Camlam Vietnam Joint Stock Company. See Intent to Rescind Memorandum.

4. Cosco Star International Co., Ltd.

5. Eagle Industries Company Limited

6. Golden Bridge Industries Pte. Ltd

7. Govina Investment Joint Stock Company

8. Greatriver Wood Company Limited ²⁸

²⁸ We also initiated a review of this company of Cong Ty TNHH Greatriver Wood. We have preliminarily treated these companies as the same entity.

9. Greatwood Hung Yen Joint Stock Company ²⁹

²⁹ We also initiated a review of this company under its former name Greatwood Company Limited. See Circumvention Final Determination IDM at 76.

10. Hai Hien Bamboo Wood Joint Stock Company

11. Her Hui Wood (Vietnam) Co., Ltd.

12. Innovgreen Thanh Hoa Co., Ltd.

13. Lechenwood Viet Nam Company Limited ³⁰

³⁰ We also initiated a review of Lechenwood Viet Nam Company Limited. We have preliminarily treated these companies as the same entity.

14. Long Luu Plywood Production Co., Ltd

15. TEKCOM Corporation

16. Thang Long Wood Panel Company Ltd.³¹

³¹ We also initiated a review of this company under the minor name variation Thang Long Wood Panel Company. See Intent to Rescind Memorandum.

17. TL Trung Viet Company Limited

18. VietNam ZhongJia Wood Company Limited.

19. Win Faith Trading Limited ³²

³² We also initiated a review of this company under the minor name variation Win Faith Trading. See Intent to Rescind Memorandum.

Appendix II

Companies Rescinded from Review

A. Withdrawals of Requests for Review

1. Fulin Wood Import Export Company Limited

2. Greatwood Joint Stock Company

3. Greentech Investment Co., Ltd.

4. Long Dat Import and Export Production Company

5. Star Light Multimedia Co., Ltd.

6. VietBac Plywood LLC

B. No Suspended Entries During the POR

1. Anhui Hoda Wood Co., Ltd.

2. BAC Son Woods Processing Joint Stock Company

3. Bao Yen MDF Joint Stock Company

4. Bergey (Tianjin) International Co., Ltd.

5. BHL Thai Nguyen Corp.

6. BHL Vietnam Investment and Development

7. Celtic Co., Ltd.

8. Chengxinli Wood Co Ltd of Lanshan

9. China Friend Limited

10. China National United Forestry Co.

11. Dong Tam Production Trading Company Limited

12. Dongguan Lingfeng Wood Industry Co.

13. Feixian Wanda Wood Factory

14. Happy Wood Industrial Group Co., Ltd.

15. High Hope Zhongding Corporation

16. Hunan Fuxi International Trade Co., Ltd.

17. Huong Son Wood Group Co., Ltd.

18. Jiangsu High Hope Arser Co. Ltd.

19. Jiaxing Hengtong Wood Co., Ltd.

20. Lianyungang Yuantai International Trade Co., Ltd.

21. Linwood Vietnam Co. Ltd.

22. Linyi Chengen Import and Export Co., Ltd.

23. Linyi City Dongfang Fukai Wood Industry Co., Ltd.

24. Linyi City Dongfang Jinxin Economic & Trade Co., Ltd.

25. Linyi Dongstar Import & Export Co., Ltd.

26. Linyi Evergreen Wood Co., Ltd.

27. Linyi Glary Plywood Co., Ltd.

28. Linyi Highwise International Trade Co., Ltd.

29. Linyi Huasheng Yongbin Wood Co., Ltd.

30. Linyi Jiahe Wood Industry Co., Ltd.

31. Linyi Sanfortune Wood Co., Ltd.

32. Linyi Yachen Wood Co., Ltd.

33. Long Phat Construction Investment and Trade Joint Stock Company

34. Pingyi Jinniu Wood Co., Ltd.

35. Pizhou Dayun Import and Export Trade Co., Ltd.

36. Pizhou Jiangshan Wood Co., Ltd

37. Pizhou Ouyme Import & Export Trade Co., Ltd.

38. Qingdao Top P&Q International Corp.

39. Rongjia Woods Vietnam Company Limited

40. Shandong Dongfang Bayley Wood Company

41. Shandong Fangsi Import and Export Co.

42. Shandong Good Wood Imp and Exp Co.

43. Shandong Jinhua International Trading Co.

44. Shandong Junke Import & Export Trade Co., Ltd.

45. Shandong Wood Home Trading Co., Ltd.

46. Shanghai Brightwood Trading Co., Ltd.

47. Shanghai Futuwood Trading Co., Ltd.

48. Shenzhen Yumei Trading Co., Ltd

49. Shouguang Wanda Wood Co., Ltd.

50. Sumec Huongson Wood Group Co. Ltd.

51. Sumec International Technology Co.

52. Suqian Hopeway International Trade Co., Ltd.

53. Suzhou Oriental Dragon Import and Export Co., Ltd.

54. Tan Tien Co. Ltd.

55. Thanh Hoa Stone Export Company

56. Truong Son North Construction JSC

57. Vietind Co. Ltd.

58. Vietnam Golden Timber Company Limited

59. Xuzhou Emmet Import and Export Trade

60. Xuzhou Jiangheng Wood Products Co., Ltd.

61. Xuzhou Jiangyang Wood Industries Co., Ltd.

62. Xuzhou Shelter Imp & Exp Co., Ltd.

63. Xuzhou Shengping Imp. and Exp. Co., Ltd.

64. Xuzhou Timber International Trade Co., Ltd.

65. Yangzhou Hanov International Co., Ltd.

66. Yishui Win-Win Wood Co., Ltd.

67. Zhejiang Dehua TB Import & Export Co., Ltd.

Appendix III

List of Topics Discussed in the Preliminary Decision Memorandum

I. Summary

II. Background

III. Scope of the Order

IV. Rescission of Administrative Review, In Part

V. Discussion of Methodology

VI. Certification Program

VII. Recommendation

[FR Doc. 2024-18285 Filed 8-14-24; 8:45 am]

BILLING CODE 3510-DS-P